DEPARTMENT OF THE INTERIOR

Bureau of Indian Affairs

[223A2100DD/AAKC001030/A0A501010.999900]

Indian Gaming; Approval of Tribal-State Class III Gaming Compact in the State of Arizona

AGENCY: Bureau of Indian Affairs, Interior.

ACTION: Notice.

SUMMARY: This Notice publishes the approval of the Yavapai-Prescott Indian Tribe—State of Arizona Amended and Restated Gaming Compact (Compact) and the Agreement to Amend Compact (Amendment) between the Yavapai-Prescott Indian Tribe (Tribe) and the State of Arizona (State).

DATES: The compact and amendment take effect on July 26, 2022.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Yavapai-Prescott Indian Tribe and the State of Arizona agreed to the Compact and then to the Amendment. The Compact permits various types of gaming, including video devices, house banked card games, off-track pari-mutuel wagering, dealer controlled electronic games, sports wagering, fantasy sports contests, and live table games on the Tribe's Indian lands. The Compact includes provisions requiring the Tribe to pay the State from the Tribe's net win in exchange for substantial exclusivity in the State and for regulatory costs. The Compact provides that the Tribe will have the responsibility to administer and enforce regulatory requirements. The Amendment clarifies certain definitions and provisions in the Compact. The Compact and the Amendment are approved.

Bryan Newland,
Assistant Secretary—Indian Affairs.

[FR Doc. 2022-16024 Filed 7-25-22; 8:45 am]

BILLING CODE 4337-15-P